FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 22, 2005.

A. Federal Reserve Bank of Chicago (Patrick Wilder, Assistant Vice President) 230 South LaSalle Street, Chicago, Illinois 60690-1414:

1. Douglas M. Kratz, Bettendorf, Iowa, and Perry B. Hansen, Rapids City, Illinois; to acquire voting shares of Ridgestone Financial Services, Inc., Brookfield, Wisconsin, and thereby indirectly acquire voting shares of Ridgestone Bank, Brookfield, Wisconsin.

B. Federal Reserve Bank of St. Louis (Randall C. Sumner, Vice President) 411 Locust Street, St. Louis, Missouri 63166-2034:

1. Richard T. Gregg and Jenny D. Gregg, both of Nixa, Missouri; to acquire voting shares of Southwest Missouri Bancshares, Inc., Ozark, Missouri, and thereby indirectly acquire voting shares of Southwest Community Bank, Ozark, Missouri.

C. Federal Reserve Bank of Kansas City (Donna J. Ward, Assistant Vice President) 925 Grand Avenue, Kansas City, Missouri 64198-0001:

1. Bill D. Inhofe, Muskogee, Oklahoma; to acquire voting shares of Boynton Holding Company, Muskogee, Oklahoma, and thereby indirectly acquire voting shares of Territory Bank, Muskogee, Oklahoma.

Board of Governors of the Federal Reserve System, February 2, 2005.
Robert deV. Frierson,
Deputy Secretary of the Board.

[FR Doc. 05-2333 Filed 2-7-05; 8:45 am]

BILLING CODE 6210-01-S